DEPARTMENT OF STATE

[Public Notice 4397]

Bureau of Educational and Cultural Affairs Request for Grant Proposals (RFGPs) in an Open Competition Seeking Cooperative International Projects To Introduce American and Foreign Participants to Each Other's Social, Economic, and Political Structures

SUMMARY: The Office of Citizen Exchanges of the Bureau of Educational and Cultural Affairs announces an open competition for cooperative international projects that introduce American and foreign participants to each others' social, economic, and political structures and international interests. U.S.-based public and private non-profit organizations meeting the provisions described in Internal Revenue code section 26 U.S.C. 501(c)(3) may submit proposals that support international projects in the United States and overseas involving current or potential leaders.

Interested applicants should read the complete Federal Register announcement before addressing inquiries to the Office of Citizen Exchanges or submitting their proposals. Once the RFGP deadline has passed, the Office of Citizen Exchanges may not discuss this competition in any way with applicants until after the Bureau program and project review process has been completed.

Important Note: This Request for Grant Proposals contains language in certain sections that is new or significantly different from that used in the past. Please pay special attention to the following sections: General Program Guidelines; Ineligibility; Program Data Requirements, and Budget Guidelines and Cost-Sharing Requirements.

FOR FURTHER INFORMATION CONTACT: Interested organizations/institutions may contact the Office of Citizen Exchanges, room 216, SA-44, U.S. Department of State, 301 4th Street, SW., Washington, DC 20547, telephone number 202/619-5348, fax number 202/260-0440 to request a Solicitation Package. The Solicitation Package contains detailed award criteria, required application forms, specific budget instructions, and standard guidelines for proposal preparation. Please specify the appropriate Bureau Program Officer as listed below on all other inquiries and correspondence.

To Download a Solicitation Package via Internet: The entire Solicitation Package also may be downloaded from the Bureau's Web site at http://exchanges.state.gov/education/RFGPs. Please read all information before downloading.

Announcement Name and Number

All correspondence with the Bureau concerning this RFGP should reference the “Open Competition for Cooperative International Projects” and reference number: ECA/PE/C-04-01. Please refer to title and number in all correspondence or telephone calls to the Office of Citizen Exchanges.

Program Information

Overview

The Office of Citizen Exchanges of the Bureau of Educational and Cultural Affairs announces this Open Competition for proposals for assistance grants for all world regions except Western, Central, Southeast Europe and Russia/Eurasia. We welcome proposals that directly respond to the following themes, regions and countries. Given budgetary considerations, projects in countries and for themes other than those listed will not be eligible for consideration. The themes listed below are important to the Office of Citizen Exchanges, but no guarantee is made or implied that grants will be made in all categories.

This competition is based on the premise that people-to-people exchanges focused on the enhancement of human capacity and the encouragement and strengthening of democratic initiatives nurture the social, political, and economic development of society.

Proposals for single country, sub-regional and regional projects will be accepted. In some cases, where noted, multi-country proposals will be given priority consideration.

Proposals should be designed to support exchanges that operate on two levels: (1) They should enhance institutional partnerships between U.S. organizations and partner organizations in the region, improving the institutional capacity of the partner organizations, and (2) they should offer practical information and useful materials to enable the partners to share skills and practical experience after the grant period is over.

The Bureau encourages applicants to consider carefully the choice of target countries and issues. In order to prevent duplication of effort, proposals should reflect an understanding of the work of USAID and other development agencies, where appropriate, on the target themes, and focus on countries for which there has been limited investment on the selected issue, or for which exchange activities would complement—not duplicate—current assistance programs. Applicants are encouraged to contact the Office of Citizen Exchanges to discuss program concepts prior to proposal submission. In addition, applicants may contact the Public Affairs Sections in U.S. Embassies to discuss proposed activities and their relevance to mission priorities.

To the extent possible, exchanges should be bilateral, with roughly equal numbers of participants from the U.S. and foreign countries. If a bilateral exchange is not proposed, the reasons should be explained in the proposal.

Applicants should carefully review the following recommendations to tailor proposals to address issues of interest in specific geographical areas.

Grants awarded to eligible organizations with less than four years of experience in conducting international development or exchange programs will be limited to $60,000. Applicants must submit a comprehensive budget for their entire proposed program. Grant awards will range from $60,000 to $200,000. Proposals must provide a summary budget as well as breakdowns reflecting both administrative and program budgets.

Proposals which clearly demonstrate a significant cost-sharing—with 50% of the amount requested from ECA as the preferred target—will be judged more competitive. For example, an organization requesting $150,000 would be more competitive if the proposal presented at least $75,000 in allowable cost sharing.

Sub-Saharan Africa (AF)

Contacts for African programs: Curtis Huff, 202/619-5972; e-mail: chuff@pd.state.gov, and Carol Herrera, 202/619-5405; e-mail: cherrera@pd.state.gov, James Ogul, 202/205-0535; e-mail: jogul@pd.state.gov.

1. Strengthen private sector approaches to generating economic growth and increasing productivity in Africa through expanded trade and investment, especially in countries where there are pro-growth economic policies that foster enterprise and entrepreneurship:

Proposals should focus on building an understanding of the impact of globalization on the national economy with emphasis on both the benefits of globalization and the inherent risks involved in participating in the global economy. Project themes may include orderly market compliance, intellectual property rights (IPR) enforcement, regulatory transparency, sector reforms and measures that government and business can take to ease the displacement of workers in the process of economic liberalization. A sub-theme could include a discussion of how the U.S. implements commercial diplomacy including how we negotiate and plan our trade/commercial relations. Proposals should “jumpstart” the African Growth and Opportunities Act (AGOA) process by providing medium and small African business entrepreneurs and members of business associations an understanding of AGOA and of the American market place. Projects should enhance African understanding of U.S. business norms and actual practices, of U.S. customs operations, product distribution and retailing, and help them develop business linkages and relationships with manufacturers and business in their respective sectors. Of particular interest would be proposals for projects in AGOA approved countries

2. Increase African capacity to fight terrorism, and to prevent, mitigate and resolve crises, conflict and regional instability:

Proposals should promote constructive dialogue and the reduction of stereotyping, violence, hatred, and incitement among diverse groups. A proposal could address a particular conflict or develop a broadly applicable educational program to promote peaceful resolution of current or recent inter-communal conflicts or tensions. It could work through the media or educational institutions or NGOs or other implementation channels. It should build a valued working relationship between U.S. and African professionals in conflict management and resolution, and develop or result in a program that can continue after grant support is finished. Of particular interest would be a proposal on Moving Beyond Conflict to Recovery with emphasis on the Democratic Republic of the Congo/Great Lakes, Sierra Leone/Guinea/Liberia, Ethiopia/Eritrea, and Angola. Issues should include setting priorities and reconciliation methodologies after a long war, i.e. family reunification, land tenure, encouraging a return to the countryside, permanent resettlement in place vs. return to pre-conflict homes, de-mining and major infrastructure repair.

3. Increase democracy, good governance and respect for the rule of law, and help strengthen civil society:

Proposals should focus on working with African governments and NGOs to promote and strengthen civil societies, independent media, human rights, the rule of law and democratic development. Issues to be addressed might include the meaning of civil society, the separation of governmental powers, the role of non-governmental organizations, promoting responsible and balanced journalism and media professionalism, political tolerance, social diversity, rule of law, democratic and team-centered approaches to decision-making. Proposals should include different ethnic and religious groups in order to expand the dialogue for coexistence. Among the themes of interest are: the development of an independent judiciary; the enforcement of commercial laws such as intellectual property rights protection, sanctity of contracts, and competition policy; labor rights; government accountability; and alternative dispute resolution. The objective is to acquaint officials, journalists, NGO leaders, lawyers and other relevant professionals with the concepts and practice of law in the U.S. and the applicability of the U.S. experience throughout Africa.

4. Decrease the spread of HIV/AIDS, malaria and other infectious diseases:

Proposals should outline exchange activities that would foster awareness of risk and promote behavior changes crucial to control and eventual eradication of HIV/AIDS or associated debilitating diseases such as malaria and multiple-drug resistant tuberculosis. Proposals should address a selection of the following topics: education strategies to teach prevention to people who don't believe it can happen to them or believe that infection is inevitable; stigma reduction strategies for people living with HIV/AIDS; engagement of political, religious, cultural and other leaders in public education efforts; grassroots mobilization and advocacy. Note: proposals must clearly support the “U.S. Leadership Against HIV/AIDS, Tuberculosis and Malaria Act of 2003” and promote accomplishment of the goals set forth in the U.S. Emergency Plan for AIDS Relief. Details on U.S. policy to combat HIV/AIDS can be found at http://www.whitehouse.gov/infocus/hivaids/

5. Preserve Africa's sustainable resource base:

Proposals should develop exchanges that focus public awareness on the threat posed by environmental deterioration, facilitate efforts to combat the threat by mobilizing governmental and/or non-governmental action, and work at multiple levels to educate and to develop solutions. Of special interest are proposals that would strengthen national park systems, that would clean up major cities, and that would make clean water much more widely available. ECA Bureau funds cannot be used for construction projects, but should be used for projects that increase an understanding of how to plan and mobilize forces to accomplish these goals. Proposals should build a valued working relationship between Americans and Africans that is likely to continue after grant support is finished.

East Asia and the Pacific (EAP)

The contact for East Asian and Pacific programs: Raymond H. Harvey 202/260-5491; e-mail: rharvey@pd.state.gov.

1. Increase regional cooperation to fight terrorism, and to prevent disruption of regional trends toward peace, prosperity, and democracy:

Proposals should outline exchange activities that engage non-governmental organizations and key citizen groups active in raising public awareness of the danger of terrorism and addressing the serious negative impact that terrorism and its practitioners have on countries in the region and on the conditions—financial, economic and political—that increase the vulnerability of the region to terrorism. Emphasis should be placed on the need to secure the active cooperation of other publics and governments in the region, bilaterally and multilaterally within ASEAN, the ASEAN Regional Forum (ARF) and APEC. Proposals for exchange activities in Thailand, Indonesia, the Philippines and Malaysia would be welcome.

2. Continue the development of democracy in the region by focusing on efforts to reinforce educational opportunity, domestic demand for honest government and greater respect for individual human rights:

Proposals should strengthen institutions of government whose efforts have a direct impact on the quality of a country's democracy and increase transparency, accountability, responsiveness and effectiveness of government operations. Especially welcome would be proposals that address efforts to fight corruption in public and private institutions. Projects might focus on strengthening local non-profit organizations that advocate transparency and equal treatment of all before the law. Local government officials or elements of executive branches, legislatures, or judicial systems may also be appropriate program participants. One example might be an exchange for local mayors to exchange views with U.S. counterparts on innovations in city government and citizen participation in municipal affairs, with a return visit by a group of U.S. mayors and city managers and municipal experts to hold local workshops on the same theme. Also welcome would be proposals that engage organizations and individuals actively involved in developing or supporting strategies that promote increased formal and informal educational opportunities. Emphasis should be on providing essential tools and support to educators for classes and leadership activities. Potential topics for activities include, but are not limited to, creating & reconstructing educational opportunities, modernizing teaching methodology & practice, curriculum development, promoting an appreciation through the educational system of the vital role of women & girls in society and the importance of teaching leadership, civic responsibility and peaceful conflict resolution in the primary and secondary school classroom. Proposals for exchange activities in Indonesia and Malaysia would be welcome.

3. Creating awareness and changing behavior to keep ahead of the advancing trends that have internationalized once-local problems such as HIV/AIDS, narcotics trafficking, the epidemic of infectious diseases, especially SARS, malaria and TB:

The office would welcome proposals that promote better understanding of the threat posed by HIV/AIDS and other infectious diseases. Projects should explore the need to develop and reward leadership in these efforts, to improve community health education, and to remove barriers that impede a cooperative multi-sectoral response to these issues. Projects should address some of following topics: prevention and stigma reduction strategies for people living with HIV/AIDS, especially women and youth; engagement of political, religious, cultural and other leaders in public education efforts; grassroots mobilization and advocacy. Proposals for exchange activities in Vietnam and Thailand would be welcome. Note: proposals must clearly support the “U.S. Leadership Against HIV/AIDS, Tuberculosis and Malaria Act of 2003” and promote accomplishment of the goals set forth in the U.S. Emergency Plan for AIDS Relief. Details on U.S. policy to combat HIV/AIDS can be found at http://www.whitehouse.gov/infocus/hivaids/.

4. Promotion of open markets and pro-growth policies to help restore long-term growth prospects by strengthening Asian financial systems, improving corporate governance and restructuring, promoting regulatory reform, and pressing for trade and investment liberalization:

Proposals should focus on promoting greater understanding of the impact of globalization on national economies, with emphasis on both the benefits of globalization and the inherent risks involved in participating in the global economy. Themes could include orderly market compliance (WTO entry and responsibilities), intellectual property rights (IPR) enforcement, regulatory transparency, sector reforms and measures that government and business can take to ease the displacement of workers in the process of economic liberalization. Proposals may also address the public administration of trade regimes, such as training for customs officials, product promotion of both exports and imports, port administration, accountability, tracking systems development, etc. Projects that assist in the design and funding of a social welfare net for those at the bottom of the economic ladder are also solicited. We would welcome proposals for projects in Vietnam and The People's Republic of China.

Near East and North Africa (NEA)

South Asia (SA)

Contacts for NEA and SA programs: Thomas Johnston, 202/619-5325; {tjohnsto@pd.state.gov} or Susan Krause, 202/619-5332; {skrause@pd.state.gov}.

The countries/entities comprising the NEA and SA Areas are listed. Currently there is no U.S. mission in Iran, Iraq, or Libya. Note that project foci suggested below may be appropriate for single country, multi-country or regional proposals.

Countries/Entities of the Near East and North Africa—Algeria; Bahrain; Egypt; Iran; Iraq; Israel; Jordan; Kuwait; Lebanon; Libya; Morocco; Oman; Qatar; Saudi Arabia; Syria; Tunisia; the United Arab Emirates (UAE); the West Bank and Gaza; Yemen.

Countries of South Asia—Afghanistan; Bangladesh; Bhutan; India; the Maldives; Nepal; Pakistan; Sri Lanka.

1. Address factors that contribute to extreme political orientation through programs that increase educational opportunity, accelerate economic reform, and promote the development of civil society in the region:

Proposals should lead to enhanced and broadened educational opportunities for youth, to greater possibilities for professional development leading to economic independence and self respect, or to integrating into elementary and secondary education curricula civic education concepts such as citizen awareness, participation, volunteerism, and community service. Projects that contribute to educational development through train-the-trainer, in-service skills enhancement, and curriculum and methodology orientation for teachers are welcome. Likewise, there is a need for trained instructors at all levels as well as for curricula and systems that produce technically qualified, mid-level workers. Proposals should focus on development of educational programs and institutions that teach how to be a skilled teacher, how to apply modern technology, how to implement and teach environmentally and scientifically sound water management and agricultural practices, how to design and plan road safety measures, etc. Finally, the development of ethics and civic responsibility through education is an important step in creating a more civil and democratic society. Middle Eastern groups are particularly interested in learning how American school systems have incorporated in their curricula community service, leadership development, volunteerism and environmental campaigns, and other activities that involve students in the larger society.

Note: This competition is NOT designed for youth exchanges. Only adult professionals or grassroots practitioners may be selected to travel internationally for exchange activities under this competition. Individual university students may take part in pilot sessions and in-country educational activities.

2. The expansion of citizen participation and advocacy, the development of good governance, and the strengthening of non-governmental institutions are essential to democratic society:

Proposed exchanges should contribute to transparency and the development of (mechanisms of) public oversight and control to counteract the possibility of corruption and abuse in governmental institutions, should strengthen the role of citizen initiative, participation and advocacy through non-governmental organizations, or should reinforce the concept of the rule of law, the rational administration of the judicial system, and citizens' right to equal justice. A populace experiencing abuses of power and corruption loses confidence in its civil institutions. The American NGO might work with indigenous NGOs, citizens' rights groups, journalists, and government officials to determine how best to expose and combat corruption and promote accountability and transparency. The Bureau welcomes proposals that promote an understanding of the proper role of NGOs in a democratic society. Social and political activism, encouraged, focused, and channeled through non-governmental organizations, is a basic underpinning of democratic society. Strengthening NGO advocacy skills, management, recruitment and mobilization, media relations, and networking will strengthen democratic/civil society trends. A well-trained, independent judiciary is fundamental to a democratic political and social system. Proposals might introduce judges/prosecutors/lawyers to the functioning of the legal system in the U.S.

3. National and regional stability, based on tolerance and cooperation, is an essential underpinning for the region's continued growth and cooperation:

Proposals should focus on issues of conflict resolution and promotion of tolerance and cooperation among diverse ethnic communities. A community that expends its time, its energy, and its material resources on offensive or defensive combat is unable to develop or maintain a civil basis for democratic institutions. Communal and ethnic tolerance is difficult to achieve, and the problem has worsened with the rise of community-based political groups, particularly those centered on religion. There are numerous community groups working to bring about resolution to the challenge posed by ethnic nationalism, and the American experience of absorbing, integrating, and accommodating diverse communities from various parts of the world into a civil, as opposed to an ethnically defined, polity would be useful to these groups. Of particular relevance would be the experience of programs that teach tolerance in either a formal setting or in novel arts/media-based contexts.

4. Economic growth, improved living standards, and participation in the global economy are linked to and dependent on environmental protection, sound natural resources management, and promoting public health:

Proposals should focus on conditions that allow for and promote economic growth and increased participation in the global economy. These conditions include, in addition to a balanced, transparent and predictable system of civil dispute resolution, sound environmental protection and natural resources management and a rational approach to issues of public health. Economic growth, including participation in the broader global economy, is dependent on environmental protection and natural resources management and is directly correlated to the physical well being of the population. Exchange projects might enhance public awareness of the threat posted by environmental deterioration and facilitate efforts at multiple levels to combat the threat or might focus on natural resources management. Central to any discussion of natural resources management in the Middle East is the question of water: water conservation, quality, availability, and distribution. Finally, environmental stewardship and natural resource management are closely linked to issues of public health. Public health may be addressed either from the perspective of prevention or from the perspective of developing resources to respond to what is currently an overwhelming need for public health information and services.

5. An informed public is the basis of democratic institution building. Journalism that contributes to public understanding and sound decision making is an essential building block for civil society:

Proposals should focus on the role and responsibility of a free press in a democratic society and should include journalism training and/or professional skills development. If the fourth estate is to fulfill its role as sine qua non of democratic society, journalists must be well trained, and they must have an appreciation for the importance of objective reporting, the ethics of presenting a true and balanced account, and the skills required for subject specialization, rational media management, and dealing with laws that constrain press freedom.

Western Hemisphere Affairs (WHA)

The Bureau of Western Hemisphere Affairs includes the countries of Canada, Mexico, Central and South America, and the Caribbean.

The contact for Western Hemisphere Affairs programs: Laverne Johnson, 202/619-5337; e-mail: ljohnson@pd.state.gov.

1. Increase adherence to democratic practices and their respect for human rights:

Proposals should focus on developing a better understanding of the role of NGOs in influencing political processes, lobbying, and networking with other organizations. Proposals may address any of the following program concepts designed to enhance democracy within WHA countries: Transparency and Anti-corruption, Administration of Justice (also Comparative Legal Systems), Civilian-Military Relations, Civil Society Participation in Government, Leadership for Democracy, and Alternative Dispute Resolution as a Solution to Inter-ethnic conflict. Proposals are also welcome that help support non-governmental organizations to build public awareness of narcotics and human trafficking as violations of human rights that can have a pernicious influence on democratic systems would also be welcomed. (Any such proposals must demonstrate clear coordination with and support for existing U.S. Government anti-narcotics and anti-human trafficking programs in WHA countries.) Proposals should focus on how a democratic government functions from the community to the national level in addressing these concepts. Participants would be representatives of politically engaged NGOs with a good-government focus. Project activities might focus on how municipal teams, including government officials, educational leaders, NGOs, business leaders, etc., join forces to develop approaches to economic development or solutions to major problems (environment, crime, drug use, etc.) Ideally, participants will be committed activists who will share ideas, successes, and challenges from the U.S. and the foreign country.

2. Accelerating economic growth:

Proposals should focus on the impact of globalization on the national economy with emphasis on both the benefits of globalization and the inherent risks involved in participating in the global economy. Projects, which include orderly market compliance, intellectual property rights (IPR) enforcement, regulatory transparency, sector reforms and measures that government and business can take to ease the displacement of workers in the process of economic liberalization. A sub-theme would include a discussion of how the U.S. implements commercial diplomacy including how we negotiate and plan our trade/commercial relations.

3. Enhance development of good health through focus HIV/AIDS:

Proposals should focus on creative community-based public awareness initiatives that will promote better health care and prevent the spread of HIV/AIDS. Proposals should focus on educating girls and young women on some of the following topics: the need for prevention and stigma reduction strategies for people living with HIV/AIDS, engagement of political, religious, cultural and other leaders in public education efforts; grassroots mobilization and advocacy.

Note: proposals must clearly support the “U.S. Leadership Against HIV/AIDS, Tuberculosis and Malaria Act of 2003” and promote accomplishment of the goals set forth in the US Emergency Plan for AIDS Relief. Details on U.S. policy to combat HIV/AIDS can be found at http://www.whitehouse.gov/infocus/hivaids/

4. Protection of Indigenous and Minority Cultures in a Shrinking World:

Proposals would address the protection of indigenous cultures by demonstrating ways in which technology can be adapted to local conditions, and how these technologies can be used to protect and preserve and disseminate information about local cultural heritage. Emphasis under this theme is on assisting countries in preserving their cultural heritage through programs designed to reduce the threat of pillage of sites representing irreplaceable cultural heritage, and to create opportunities to develop long-term strategies for preserving cultural property through training and conservation, museum development, and public education. Projects might include supporting the preservation of cultural sites, objects in a site, museum or similar institution, or forms of traditional cultural expression.

General Program Guidelines

Applicants must identify local organizations and individuals in the counterpart country with whom they are proposing to collaborate and describe in detail previous cooperative programming and/or contacts. Information about the counterpart organizations' activities and accomplishments is required and must be included in the section on Institutional Capacity. All proposals must contain letters of support tailored to the project being proposed from all foreign-country partner organizations. Applicants seeking information on possible overseas counterpart organizations may wish to speak with the Bureau Program Officer listed under each world region in this announcement for information on contacting U.S. Embassy personnel to discuss potential local partner institutions.

Exchanges and training programs supported by institutional grants from the Bureau should operate at two levels: they should enhance institutional partnerships, and they should offer practical information and experience to individuals and groups to assist them with their professional responsibilities. Strong proposals usually have the following characteristics:

• A proven track record of working in the proposed issue area;

• an experienced staff with language facility and a commitment by the staff to monitor projects locally to improve accountability;

• a clear, convincing plan showing how permanent results will be accomplished as a result of the activity funded by the grant; and

• a follow-on plan providing for individual and institutional cooperative efforts beyond the scope of the Bureau grant.

Proposal narratives should demonstrate an organization's willingness to consult closely with the Public Affairs Section and other officers at the U.S. Embassy. Final grants awards will require that all materials developed specifically for the project and funded with assistance of the ECA grant acknowledge USG funding for the program. Please note that this will be a formal requirement in all final grant awards. Proposals should indicate a commitment to invite representatives of the Embassy and/or Consulate to participate in various program sessions/site visits.

Suggested Program Designs

Bureau-supported exchanges may include internships; study tours; short-term, non-technical experiential learning, extended and intensive workshops and seminars taking place in the United States or overseas. Examples of possible program activities include.

1. A U.S.-based program that includes: orientation to program purposes and to U.S. society; study tour/site visits; professional internships/placements; interaction and dialogue; hands-on training; professional development; and action plan development.

2. Capacity-building/training-of-trainer (TOT) workshops to help participants to identify priorities, create work plans, strengthen professional and volunteer skills, share their experience to committed people within each country, and become active in a practical and valuable way.

3. Seed/small grants to indigenous non-profit organizations to support community-based educational projects that build upon exchange activities and that address issues of local concern. Proposals may include a component for a Seed/Small Grants Competition (often referred to as ‘sub-grants’ or ‘secondary grants’). This requires a detailed plan for recruitment and advertising; description of the proposal review and award mechanism; a plan for how the grantee would monitor and evaluate small grant activity; and a proposed amount for an average grant. The small grants should be directly linked to exchange activities. Small/seed grants may not be used for micro-credit or re-loaning purposes. Small/seed grants may not exceed 10% of the total value of the grant funds sought from ECA.

4. Site visits by U.S. facilitators/experts to monitor projects in the region and to provide additional training and consultations as needed.

5. Content-based Internet training/ cyber-training to encourage citizen participation in workshops, fora, chats, and/or discussions via the Internet that will stimulate communication and information sharing among key opinion leaders on priority topics as a form of cost sharing. Proposals that include Internet utilization must reflect knowledge of the opportunities and obstacles that exist for use of information technologies in the target country or countries, and, if needed, provide hardware, software and servers, preferably as a form of cost sharing. Federal standards are under review and their adoption may impact on the implementation of these programs.

Ineligibility

During the program office's review process, all proposals will judged on their technical eligibility. A proposal deemed technically ineligible will be listed as not competitive. A proposal will be deemed technically ineligible for consideration if:

• It does not fully adhere to the guidelines established in this document and in the Proposal Submission Instructions;

• It is not received by the deadline;

• It is not submitted by a U.S. based Public Private not for profit organization meeting provisions described in Internal Revenue code section 26 U.S.C. 503 c (3);

• The foreign country or geographic location is ineligible.

• The proposal does not include an in-country foreign partner organization(s) and does not contain letters of support from foreign partners, tailored to the proposed project and specific information in the narrative about the partner organization's past activities and accomplishments;

• The proposal includes activities that are ineligible for support, as listed below.

Activities Ineligible for Support

Vocational training (an occupation other than one requiring a baccalaureate or higher academic degree; i.e., clerical work, auto maintenance, etc., and other occupations requiring less than two years of higher education) and technical training (special and practical knowledge of a mechanical or a scientific subject which enhances mechanical, narrowly scientific, or semi-skilled capabilities) are ineligible for support. In addition, academic scholarship programs are ineligible for support.

The Office does not support proposals limited to conferences or seminars (i.e., one to fourteen-day programs with plenary sessions, main speakers, panels, and a passive audience). It will support conferences only insofar as they are a small part of a larger project in duration and scope that is receiving Bureau funding from this competition. The Office will only support workshops, seminars and training sessions that are an integral part of a larger project. No funding is available exclusively to send U.S. citizens to conferences or conference-type seminars overseas; nor is funding available for bringing foreign nationals to conferences or to routine professional association meetings in the United States.

Program Data Requirements

Organizations awarded grants will be required to maintain specific data on program participants and activities in an electronically accessible database format that can be shared with the Bureau of Educational and Cultural Affairs as required. As a minimum, the data must include the following:

• Name, address, contact information and biographic sketch of all persons who travel internationally on funds provided by the grant or who benefit from the grant funding but do not travel.

• Itineraries of international and domestic travel, providing dates of travel and cities in which exchange experiences take place.

Selection of Participants

All grant proposals should clearly describe the type of persons who will participate in the program as well as the process by which participants will be selected. It is recommended that for programs including U.S. internships, grant applicants submit letters tentatively committing host institutions to support the internships. In the selection of foreign participants, the Department and U.S. Embassies retain the right to review all participant nominations and to accept or refuse participants recommended by grantee institutions. When participants are selected, grantee institutions will provide the names of American participants and brief (two pages) biographical data on each American participant to the Office of Citizen Exchanges for information purposes. Priority in two-way exchange proposals will be given to foreign participants who have not previously traveled to the United States. (See section below on requirements for maintenance of and provision to ECA of data on participants and program activities.) Priority in selection of U.S. participants must be given to veterans of the U.S. armed forces.

Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62.

Therefore, the Bureau expects that any organization receiving a grant under this competition will render all assistance necessary to enable the Bureau to fully comply with 22 CFR part 62 et seq.

The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If your organization has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD—SA-44, Room 734, 301 4th Street, SW., Washington, DC 20547, Telephone: (202) 401-9810, FAX: (202) 401-9809.

Evaluation

In general, evaluation should be ongoing and evolving throughout the duration of the project. The evaluation plan will incorporate an assessment of the program from a variety of perspectives. Specifically, project assessment efforts will focus on: (a) Determining if objectives are being met or have been met, (b) identifying any unmet needs, and (c) assessing if the project has effectively discovered resources, advocates, and financial support for sustainability of future projects. Informal evaluation through discussions and other sources of feedback will be carried out throughout the duration of the project. Formal evaluation will be conducted at the end of each phase, using instruments designed specifically to measure the impact of the activities and should obtain participants' feedback and comments on the program content and administration. A detailed evaluation will be conducted at the conclusion of the project and the report will be submitted to the Department of State Bureau of Educational and Cultural Affairs. When possible, the evaluation should be done by an independent evaluator.

Budget Guidelines and Cost-Sharing Requirements

Grants awarded to eligible organizations with less than four years of experience in conducting international development or exchange programs will be limited to $60,000. Applicants must submit a comprehensive budget for the entire program. Grant awards will range from $125,000 to $200,000. There must be a summary budget as well as breakdowns reflecting both administrative and program budgets. Applicants may provide separate sub-budgets for each program component, phase, location, or activity to provide clarification.

Since Bureau grant assistance constitutes only a portion of total project funding, proposals should list and provide evidence of other anticipated sources of financial and in-kind support. Proposals which clearly demonstrate a significant level of cost sharing—with 50% of the amount requested from ECA as the preferred target—will be judged more competitive. Proposals with higher cost-sharing levels are welcome.

Example: A proposal requests $140,000 in grant funds from ECA, for a project with a total budget of $500,000. The preferred allowable cost sharing is $70,000. In this case, the cost sharing far exceeds the minimum, since actual cost sharing is $360,000.

When cost sharing is offered, it is understood and agreed that the applicant must provide the minimum amount of cost sharing as stipulated in this RFGP and later included in an approved grant agreement. Cost sharing may be in the form of allowable direct or indirect costs. For accountability, you must maintain written records to support all allowable costs, which are claimed as being your contribution to cost participation, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced proportionately to the contribution.

The following project costs are eligible for consideration for funding:

1. Travel costs. International and domestic airfares; visas; transit costs; ground transportation costs. Please note that all air travel must be in compliance with the Fly America Act. There is no charge for J-1 visas for participants in Bureau sponsored programs.

2. Per Diem. For the U.S. program, organizations have the option of using a flat $170/day for program participants or the published U.S. Federal per diem rates for individual American cities. For activities outside the U.S., the published Federal per diem rates must be used. NOTE: U.S. escorting staff must use the published Federal per diem rates, not the flat rate. Per diem rates may be accessed at http://www.policyworks.gov/.

3. Interpreters. If needed, interpreters for the U.S. program are available through the U.S. Department of State Language Services Division. Typically, a pair of simultaneous interpreters is provided for every four visitors who need interpretation. Bureau grants do not pay for foreign interpreters to accompany delegations from their home country. Grant proposal budgets should contain a flat $160/day per diem for each Department of State interpreter, as well as home-program—home air transportation of $400 per interpreter plus any U.S. travel expenses during the program. Salary expenses are covered centrally and should not be part of an applicant's proposed budget. Locally arranged interpreters with adequate skills and experience may be used by the grantee in lieu of State Department interpreters, with the same 1:4 interpreter to participant ratio. Costs associated with using their services may not exceed rates for U.S. Department of State interpreters.

4. Book and cultural allowance. Foreign participants are entitled to and escorts are reimbursed a one-time cultural allowance of $150 per person, plus a participant book allowance of $50. U.S. program staff members are not eligible to receive these benefits.

5. Consultants. Consultants may be used to provide specialized expertise, design or manage development projects or to make presentations. Honoraria generally do not exceed $250 per day. Subcontracting organizations may also be used, in which case the written agreement between the prospective grantee and subcontractor should be included in the proposal. Subcontracts should be itemized in the budget.

6. Room rental. Room rental may not exceed $250 per day.

7. Materials development. Proposals may contain costs to purchase, develop, and translate materials for participants.

8. Equipment. Proposals may contain limited costs to purchase equipment crucial to the success of the program, such as computers, fax machines and copy machines. However, equipment costs must be kept to a minimum, and costs for furniture are not allowed.

9. Working Meal. The grant budget may provide for only one working meal during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. This may be used for incidental expenses incurred during international travel.

11. Health Insurance. Foreign participants will be covered under the terms of a U.S. Department of State-sponsored health insurance policy. The premium is paid by the U.S. Department of State directly to the insurance company. Applicants are permitted to include costs for travel insurance for U.S. participants in the budget.

12. Administrative Costs. Costs necessary for the effective administration of the program may include salaries for grant organization employees, benefits, and other direct or indirect costs per detailed instructions in the Solicitation Package.

Please refer to the Solicitation Package for complete budget guidelines and formatting instructions.

Deadline for Proposals

All proposal copies must be received at the Bureau of Educational and Cultural Affairs by 5 p.m. Washington, DC time on Friday, October 3, 2003. Faxed documents will not be accepted at any time. Documents postmarked the due date but received on a later date will not be accepted. Each applicant must ensure that the proposals are received by the above deadline.

Applicants must follow all instructions in the Solicitation Package. The original and 12 copies of the application should be sent to: U.S. Department of State, SA-44, Bureau of Educational and Cultural Affairs, Ref.: ECA/PE/C/-04-01, Program Management, ECA/EX/PM, Room 534, 301 4th Street, SW., Washington, DC 20547.

Applicants must also submit the “Executive Summary” and “Proposal Narrative” sections of the proposal in text (.txt) format on a PC-formatted disk. The Bureau will provide these files electronically to the Public Affairs Section at the U.S. embassy for its review.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

Proposals will be deemed ineligible if they do not fully adhere to the guidelines stated herein and in the Solicitation Package. The program office, the Public Diplomacy section and other elements at the U.S. Embassy will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for grants resides with the Bureau's Grants Officer.

Review Criteria

Technically eligible applications will be competitively reviewed according to the criteria stated below. These criteria are not rank ordered and all carry equal weight in the proposal evaluation after all required elements have been met (required cost-sharing, letters of support, willingness to work with U.S. embassies, etc).

1. Program planning to achieve program objectives: Proposals should clearly demonstrate how the institution plans to achieve the program's objectives. Objectives should be reasonable, feasible, and flexible. The proposal should contain a detailed agenda and relevant work plan that demonstrates substantive undertakings and logistical capacity. Agenda and plan should adhere to the program overview and guidelines described above.

2. Institutional Capacity/Record/Ability: Proposed personnel and institutional resources should be adequate and appropriate to achieve the program or project's goals. For technical projects, foreign experts and their local partners will be required to have the necessary education, training and experience for the work to be undertaken, in addition to language skills where applicable. Proposals should demonstrate an institutional record of successful development or exchange programs, including responsible fiscal management and full compliance with all reporting requirements for past Bureau grants as determined by Bureau Grant Staff. The Bureau will consider the past performance of prior recipients and the demonstrated potential of new applicants. Many successful applicants will have a multiyear track record of successful work in the selected country or within the region.

3. Multiplier effect/impact: Proposed programs should strengthen long-term mutual understanding, including maximum sharing of information and establishment of long-term institutional and individual linkages.

4. Support of Diversity: Proposals should demonstrate substantive support of the Bureau's policy on diversity. Achievable and relevant features should be cited in both program administration (selection of participants, program venue and program evaluation) and program content (orientation and wrap-up sessions, program meetings, resource materials and follow-up activities).

5. Follow-on Activities: Proposals should identify other types of exchanges or linkages that might be undertaken after completion of the Bureau supported activity.

6. Monitoring and Project Evaluation Plan: Proposals should provide a detailed plan for monitoring and evaluating the program. The evaluation plan should identify anticipated outcomes and performance requirements clearly related to program objectives and activities and include procedures for ongoing monitoring and corrective action when necessary. The identification of best practices relating to project administration is also encouraged, as is the discussion of unforeseen difficulties.

7. Cost-effectiveness/Cost-sharing: The overhead and administrative components of the proposal, including salaries and honoraria, should be kept as low as possible. All other items should be necessary and appropriate. Proposals with 50% cost sharing (of the amount of grant funds requested from ECA) through other private sector support as well as institutional direct funding contributions will be judged more competitive than those proposals providing a lower amount of cost sharing.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.”

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: July 3, 2003.
C. Miller Crouch,
Principal Deputy Assistant Secretary, Bureau of Educational and Cultural Affairs, Department of State.

[FR Doc. 03-17481 Filed 7-9-03; 8:45 am]

BILLING CODE 4710-05-P